NATIONAL SCIENCE FOUNDATION

Notice of Permit Applications Received Under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 23, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant—Permit Application: 2017-036

Lisa Tauxe, Scripps Institute of Oceanography, 9500 Gilman Drive, La Jolla, CA 92093

Activity for Which Permit Is Requested

Enter Antarctic Specially Protected Area (ASPA). The applicant proposes to enter ASPA No. 124, Cape Crozier, to collect small rock samples. The applicant proposes to enter the ASPA on foot to access sites for rock collection near the ASPA boundary and via helicopter to access sites well within the ASPA, but away from the penguin and skua colonies. The rock samples will be collected from areas of exposed lava flow tops and away from plant life. The samples will be archived at the home institution.

Location

Cape Crozier, ASPA 124.

Dates

December 15-30, 2016.

Nadene G. Kennedy,
Polar Coordination Specialist, Division of Polar Programs.

[FR Doc. 2016-28123 Filed 11-22-16; 8:45 am]

BILLING CODE 7555-01-P